SMALL BUSINESS ADMINISTRATION

[Disaster Declaration #17217 and #17218; PENNSYLVANIA Disaster Number PA-00116]

Presidential Declaration Amendment of a Major Disaster for Public Assistance Only for the Commonwealth of Pennsylvania

AGENCY: U.S. Small Business Administration.

ACTION: Amendment 1.

SUMMARY: This is an amendment of the Presidential declaration of a major disaster for Public Assistance Only for the Commonwealth of Pennsylvania (FEMA-4618-DR), dated 10/08/2021.

Incident: Remnants of Hurricane Ida.

Incident Period: 08/31/2021 through 09/05/2021.

DATES: Issued on 10/14/2021.

Physical Loan Application Deadline Date: 12/07/2021.

Economic Injury (EIDL) Loan Application Deadline Date: 07/08/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the Commonwealth of Pennsylvania, dated 10/08/2021, is hereby amended to include the following areas as adversely affected by the disaster.

Primary Counties: Bedford, Fulton, Huntingdon, Luzerne, Philadelphia, Schuylkill, York.

All other information in the original declaration remains unchanged.

(Catalog of Federal Domestic Assistance Number 59008)

James Rivera,
Associate Administrator for Disaster Assistance.

[FR Doc. 2021-22969 Filed 10-20-21; 8:45 am]

BILLING CODE 8026-03-P